DEPARTMENT OF LABOR

Mine Safety and Health Administration

Petition for Modification of Application of Existing Mandatory Safety Standards

AGENCY: Mine Safety and Health Administration, Labor.

ACTION: Notice.

SUMMARY: This notice is a summary of a petition for modification submitted to the Mine Safety and Health Administration (MSHA) by Canyon Fuel Company, LLC.

DATES: All comments on the petition must be received by MSHA's Office of Standards, Regulations, and Variances on or before August 14, 2025.

ADDRESSES: You may submit comments identified by Docket No. MSHA-2025-0057 by any of the following methods:

1. Federal eRulemaking Portal: https://www.regulations.gov. Follow the instructions for submitting comments for MSHA-2025-0057.

2. Fax: 202-693-9441.

3. Email: petitioncomments@dol.gov.

4. Regular Mail or Hand Delivery: MSHA, Office of Standards, Regulations, and Variances, Room C3522, 200 Constitution Ave. NW, Washington, DC 20210.

Attention: Jessica D. Senk, Acting Director, Office of Standards, Regulations, and Variances. Individuals may inspect copies of the petition and comments during normal business hours at the address listed above. Before visiting MSHA in person, call 202-693-9455 to make an appointment.

FOR FURTHER INFORMATION CONTACT: Jessica D. Senk, Office of Standards, Regulations, and Variances at 202-693-9440 (voice), Petitionsformodification@dol.gov (email), or 202-693-9441 (fax). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2025-037-C.

Petitioner: Canyon Fuel Company, LLC, HC35, Box 380, Helper, UT 84526.

Mine: Skyline Mine #3, MSHA ID No. 42-01566, located in Carbon County, Utah.

Regulation Affected: 30 CFR 75.507-1(a), Electric equipment other than power-connection points; outby the last open crosscut; return air; permissibility requirements.

Modification Request: The petitioner requests a modification of 30 CFR 75.507-1(a) to permit an alternate method of compliance for respiratory protection. Specifically, the petitioner proposes to use the non-MSHA approved Drager X-plore 8000 battery-powered air purifying respirators (PAPRs), used in return air outby the last open crosscut.

The petitioner states that:

(a) The Drager X-plore 8000 PAPRs are ergonomically designed for greater movement in tight spaces and are easy to use and maintain.

(b) The Drager X-plore 8000 provides a constant flow of filtered air which helps reduce miners' exposure to respirable dust, thus reducing their health risks.

(c) The interchangeable components of the Drager X-plore 8000 will help the petitioner customize the system to help meet their specific needs.

(d) The Drager X-plore 8000 has audible and visual alarms, has a multi-speed blower, and uses a battery that offers a long run time and charges quickly.

(e) The Drager X-plore 8000 is intrinsically safe and is certified by UL under the ANSI/UL 60079-11:13 standard to be used in hazardous locations.

(f) There are no other MSHA-approved permissible units.

(g) The petitioner is proposing to use the Drager X-plore 8000 PAPRs in conjunction with the 3M Versa Flo units that have already been approved for use on the Longwall Face.

The petitioner proposes the following alternative method:

(a) The batteries for the PAPRs will be charged outby the last open crosscut when not in operation.

(b) Batteries will be charged using the Drager standard battery Charger for the X-plore 8000.

(c) The Drager X-plore 8000 PAPRs will only use the Drager X-plore 8700 battery.

(d) Miners who use the Drager X-plore 8000 PAPRs will be trained in the proper use and care of the units in accordance with the manufacturer's instructions.

(e) The Drager X-plore 8000 PAPRs will be checked for physical damage and the integrity of the case.

(f) If methane is detected in concentrations of 1.0 percent or more, the procedures in 30 CFR 75.323 will be followed.

The miners at Skyline Mine #3 do not have a representative of miners. A copy of the petition is posted on the mine bulletin board.

The petitioner asserts that the alternative method proposed will at all times guarantee no less than the same measure of protection afforded to the miners under the mandatory standard.

Jessica D. Senk,
Acting Director, Office of Standards, Regulations, and Variances.

[FR Doc. 2025-13180 Filed 7-14-25; 8:45 am]

BILLING CODE 4520-43-P